DEPARTMENT OF ENERGY

Federal Energy Regulatory Commission

Combined Notice of Filings #1

Take notice that the Commission received the following electric corporate filings:

Docket Numbers: EC24-46-000.

Applicants: Dogwood Energy LLC.

Description: Application for Authorization Under Section 203 of the Federal Power Act of Dogwood Energy LLC.

Filed Date: 2/1/24.

Accession Number: 20240201-5254.

Comment Date: 5 p.m. ET 2/22/24.

Take notice that the Commission received the following exempt wholesale generator filings:

Docket Numbers: EG24-101-000.

Applicants: Prescott Wind Energy LLC.

Description: Prescott Wind Energy LLC submits Notice of Self-Certification of Exempt Wholesale Generator Status.

Filed Date: 2/5/24.

Accession Number: 20240205-5026.

Comment Date: 5 p.m. ET 2/26/24.

Take notice that the Commission received the following electric rate filings:

Docket Numbers: ER10-2721-018.

Applicants: El Paso Electric Company.

Description: Notice of Non-Material Change in Status of El Paso Electric Company.

Filed Date: 1/31/24.

Accession Number: 20240131-5635.

Comment Date: 5 p.m. ET 2/21/24.

Docket Numbers: ER10-2984-065.

Applicants: Merrill Lynch Commodities, Inc.

Description: Notice of Change in Status of Merrill Lynch Commodities, Inc., et al.

Filed Date: 1/31/24.

Accession Number: 20240131-5643.

Comment Date: 5 p.m. ET 2/21/24.

Docket Numbers: ER10-3193-016; ER10-1901-015; ER10-3194-010; ER17-580-006; ER10-3195-011; ER19-2707-006; ER22-2030-003; ER22-2031-004; ER22-2580-003.

Applicants: CPV Three Rivers, LLC, Sonoran West Solar Holdings 2, LLC, Sonoran West Solar Holdings, LLC, Poseidon Wind, LLC, MATEP Limited Partnership, Axium Modesto Solar, LLC, MATEP LLC, Upper Peninsula Power Company, Brooklyn Navy Yard Cogeneration Partners, L.P.

Description: Notice of Non-Material Change in Status of Brooklyn Navy Yard Cogeneration Partners, L.P., et al.

Filed Date: 1/31/24.

Accession Number: 20240131-5640.

Comment Date: 5 p.m. ET 2/21/24.

Docket Numbers: ER15-2582-015; ER10-1852-089; ER10-1951-064; ER11-4462-088; ER15-2101-016; ER17-838-062; ER21-1880-006; ER23-1862-002.

Applicants: Roundhouse Renewable Energy II, LLC, Niyol Wind, LLC, NextEra Energy Marketing, LLC, Golden West Power Partners, LLC, NEPM II, LLC, NextEra Energy Services Massachusetts, LLC, Florida Power & Light Company, Carousel Wind Farm, LLC.

Description: Notice of Change in Status of Carousel Wind Farm, LLC, et al.

Filed Date: 2/1/24.

Accession Number: 20240201-5253.

Comment Date: 5 p.m. ET 2/22/24.

Docket Numbers: ER17-256-019; ER17-242-018; ER17-243-018; ER17-245-018; ER17-652-018.

Applicants: Lightstone Marketing LLC, Waterford Power, LLC, Lawrenceburg Power, LLC, Gavin Power, LLC, Darby Power, LLC.

Description: Notice of Non-Material Change in Status of Darby Power, LLC, et al.

Filed Date: 1/31/24.

Accession Number: 20240131-5642.

Comment Date: 5 p.m. ET 2/21/24.

Docket Numbers: ER17-1370-011; ER16-581-012; ER16-2271-011; ER20-2506-002; ER21-1254-005; ER21-2204-005; ER22-1103-002.

Applicants: BRP Capital & Trade LLC, ENGIE Power & Gas LLC, Genbright LLC, Dakota Range III, LLC, ENGIE Resources LLC, ENGIE Portfolio Management, LLC, ENGIE Energy Marketing NA, Inc.

Description: Notice of Change in Status of ENGIE Energy Marketing NA, Inc., et al.

Filed Date: 1/31/24.

Accession Number: 20240131-5644.

Comment Date: 5 p.m. ET 2/21/24.

Docket Numbers: ER17-1370-012; ER16-581-013; ER16-2271-012; ER19-828-006; ER20-539-006; ER20-1338-005; ER20-2505-004; ER21-1254-006; ER21-2204-006; ER21-2279-003; ER22-1103-003.

Applicants: BRP Capital & Trade LLC, Iron Star Wind Project, LLC, ENGIE Power & Gas LLC, Genbright LLC, Triple H Wind Project, LLC, King Plains Wind Project, LLC, East Fork Wind Project, LLC, Solomon Forks Wind Project, LLC, ENGIE Resources LLC, ENGIE Portfolio Management, LLC, ENGIE Energy Marketing NA, Inc.

Description: Notice of Change in Status of ENGIE Energy Marketing NA, Inc., et al.

Filed Date: 1/31/24.

Accession Number: 20240131-5645.

Comment Date: 5 p.m. ET 2/21/24.

Docket Numbers: ER19-1280-007; ER10-2405-015; ER10-2407-011; ER10-2424-011; ER10-2425-013; ER13-1816-021; ER17-1316-009; ER18-1186-008; ER23-1582-002; ER23-1583-001; ER23-1584-001.

Applicants: Pearl River Solar Park LLC, Indiana Crossroads Wind Farm II LLC, Crooked Lake Solar, LLC, Turtle Creek Wind Farm LLC, Quilt Block Wind Farm LLC, Sustaining Power Solutions LLC, Pioneer Prairie Wind Farm I, LLC, Rail Splitter Wind Farm, LLC, Lost Lakes Wind Farm LLC, High Prairie Wind Farm II, LLC, Broadlands Wind Farm LLC.

Description: Notice of Change in Status of Broadlands Wind Farm LLC, et al.

Filed Date: 1/31/24.

Accession Number: 20240131-5634.

Comment Date: 5 p.m. ET 2/21/24.

Docket Numbers: ER19-2901-012; ER10-1852-088; ER10-1951-063; ER10-1966-022; ER11-4462-087; ER12-2225-021; ER12-2226-021; ER14-2138-018; ER17-838-061; ER18-2091-014; ER19-11-012; ER19-2389-012; ER20-1219-009; ER20-1417-010; ER20-1985-009; ER20-1988-010; ER23-489-005; ER23-493-005; ER23-2404-003.

Applicants: Bronco Plains Wind II, LLC, Thunder Wolf Energy Center, LLC, Neptune Energy Center, LLC, Northern Colorado Wind Energy Center II, LLC, Northern Colorado Wind Energy Center, LLC, Roundhouse Renewable Energy, LLC, Peetz Table Wind, LLC, Grazing Yak Solar, LLC, Peetz Logan Interconnect, LLC, Titan Solar, LLC, NextEra Energy Marketing, LLC, Limon Wind III, LLC, Limon Wind, LLC, Limon Wind II, LLC, NEPM II, LLC, Logan Wind Energy LLC, NextEra Energy Services Massachusetts, LLC, Florida Power & Light Company, Bronco Plains Wind, LLC.

Description: Notice of Change in Status of Bronco Plains Wind, LLC, et al.

Filed Date: 1/31/24.

Accession Number: 20240131-5641.

Comment Date: 5 p.m. ET 2/21/24.

Docket Numbers: ER23-170-001.

Applicants: Idaho Power Company.

Description: Compliance filing: Attachment H-1—Information Filing Template Update to be effective 1/27/2020.

Filed Date: 2/5/24.

Accession Number: 20240205-5130.

Comment Date: 5 p.m. ET 2/26/24.

Docket Numbers: ER23-2107-002; ER10-1852-087; ER10-1951-062; ER11-4462-086; ER17-838-060.

Applicants: NextEra Energy Marketing, LLC, NEPM II, LLC, NextEra Energy Services Massachusetts, LLC, Florida Power & Light Company, Clearwater Wind II, LLC.

Description: Notice of Change in Status of Clearwater Wind II, LLC, et al.

Filed Date: 1/31/24.

Accession Number: 20240131-5639.

Comment Date: 5 p.m. ET 2/21/24.

Docket Numbers: ER23-2842-002.

Applicants: Sunnyside Cogeneration Associates.

Description: Tariff Amendment: Deficiency Ltr Resp to be effective 9/15/2023.

Filed Date: 2/5/24.

Accession Number: 20240205-5132.

Comment Date: 5 p.m. ET 2/26/24.

Docket Numbers: ER23-2915-002; ER10-1899-022; ER10-1852-086; ER10-1951-061; ER11-4462-085; ER13-752-021; ER14-1630-018; ER15-2601-014; ER17-838-059; ER17-1774-012.

Applicants: NextEra Energy Bluff Point, LLC, NextEra Energy Marketing, LLC, Green Mountain Storage, LLC, Mantua Creek Solar, LLC, Energy Storage Holdings, LLC, NEPM II, LLC, NextEra Energy Services Massachusetts, LLC, Florida Power & Light Company, FPL Energy Illinois Wind, LLC, Chesapeake Solar Project, LLC.

Description: Notice of Change in Status of Chesapeake Solar Project, LLC, et al.

Filed Date: 1/31/24.

Accession Number: 20240131-5637.

Comment Date: 5 p.m. ET 2/21/24.

Docket Numbers: ER24-34-002; ER23-1862-001; ER23-2107-001; ER23-2404-002; ER23-2629-001; ER24-61-001; ER24-359-001; ER24-817-001.

Applicants: Babbitt Ranch Energy Center, LLC, Crow Creek Solar, LLC, Sky Ranch Solar, LLC, High Banks Wind, LLC, Bronco Plains Wind II, LLC, Clearwater Wind II, LLC, Roundhouse Renewable Energy II, LLC, Proxima Solar, LLC.

Description: Notice of Change in Status of Proxima Solar, LLC, et al.

Filed Date: 1/31/24.

Accession Number: 20240131-5638.

Comment Date: 5 p.m. ET 2/21/24.

Docket Numbers: ER24-125-001.

Applicants: ISO New England Inc., New England Power Company.

Description: Compliance filing: ISO New England Inc. submits tariff filing per 35: NEP; ER24-125 Compliance Filing in Response to December 5 Order to be effective 1/1/2024.

Filed Date: 2/5/24.

Accession Number: 20240205-5029.

Comment Date: 5 p.m. ET 2/26/24.

Docket Numbers: ER24-594-001.

Applicants: Salka Cabazon Wind LLC.

Description: Notice of Change in Status of Salka Cabazon Wind LLC, et al.

Filed Date: 1/31/24.

Accession Number: 20240131-5636.

Comment Date: 5 p.m. ET 2/21/24.

Docket Numbers: ER24-1006-001.

Applicants: Midcontinent Independent System Operator, Inc.

Description: Tariff Amendment: 2024-02-05_SA 3435 Entergy Mississippi-Wildwood Solar Sub 2nd Rev GIA (J908) to be effective 1/12/2024.

Filed Date: 2/5/24.

Accession Number: 20240205-5097.

Comment Date: 5 p.m. ET 2/26/24.

Docket Numbers: ER24-1187-000.

Applicants: PJM Interconnection, L.L.C.

Description: 205(d) Rate Filing: PJM-NJBPU State Agreement Approach Study Agreement, SA No. 7156 to be effective 1/3/2024.

Filed Date: 2/2/24.

Accession Number: 20240202-5153.

Comment Date: 5 p.m. ET 2/23/24.

Docket Numbers: ER24-1188-000.

Applicants: PJM Interconnection, L.L.C.

Description: 205(d) Rate Filing: Second Amended WMPA, Service Agreement No. 6023; AE1-109 to be effective 3/4/2024.

Filed Date: 2/2/24.

Accession Number: 20240202-5185.

Comment Date: 5 p.m. ET 2/23/24.

Docket Numbers: ER24-1189-000.

Applicants: PJM Interconnection, L.L.C.

Description: 205(d) Rate Filing: Original NSA, Service Agreement No. 7186; AF1-287 to be effective 4/3/2024.

Filed Date: 2/2/24.

Accession Number: 20240202-5192.

Comment Date: 5 p.m. ET 2/23/24.

Docket Numbers: ER24-1190-000.

Applicants: Alabama Power Company, Georgia Power Company, Mississippi Power Company.

Description: 205(d) Rate Filing: Alabama Power Company submits tariff filing per 35.13(a)(2)(iii: Needmore Solar Amended and Restated LGIA Filing to be effective 1/22/2024.

Filed Date: 2/5/24.

Accession Number: 20240205-5101.

Comment Date: 5 p.m. ET 2/26/24.

Docket Numbers: ER24-1191-000.

Applicants: Midcontinent Independent System Operator, Inc.

Description: 205(d) Rate Filing: 2024-02-05_Forced-Off Asset Reforms to be effective 6/3/2024.

Filed Date: 2/5/24.

Accession Number: 20240205-5118.

Comment Date: 5 p.m. ET 2/26/24.

Take notice that the Commission received the following electric securities filings:

Docket Numbers: ES24-23-000.

Applicants: MidAmerican Energy Company.

Description: Application Under Section 204 of the Federal Power Act for Authorization to Issue Securities of MidAmerican Energy Company.

Filed Date: 2/2/24.

Accession Number: 20240202-5230.

Comment Date: 5 p.m. ET 2/23/24.

Take notice that the Commission received the following qualifying facility filings:

Docket Numbers: QF24-365-000.

Applicants: Eco Green Generation LLC.

Description: Form 556 of Eco Green Generation LLC [Kalaeloa Clean Energy].

Filed Date: 2/5/24.

Accession Number: 20240205-5018.

Comment Date: 5 p.m. ET 2/26/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 5, 2024.
Debbie-Anne A. Reese,
Acting Secretary.

[FR Doc. 2024-02723 Filed 2-8-24; 8:45 am]

BILLING CODE 6717-01-P